DEPARTMENT OF LABOR

Office of the Secretary

Submission for OMB Review; Comment Request

February 25, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on (202) 693-4129 or e-Mail: King-Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Notification of Commencement of Operations and Closing of Mines.

OMB Number: 1219-0092.

Frequency: On occasion.

Type of Response: Reporting.

Affected Public: Business or other for-profit.

Number of Respondents: 2,300.

Annual Responses: 2,300.

Average Response Time: 3 minutes by telephone or 30 minutes for a written response.

Total Burden Hours: 259 hours.

Total Annualized Capital/Startup Costs: $0.

Total Annual (operating/maintaining systems or purchasing services): $1,445.

Description: Under 30 CFR 56.1000 and 57.1000, operators of metal and nonmetal mines must notify the MSHA when the operation of a mine will commence or when a mine is closed. These notifications help MSHA effectively plan mine inspections.

Ira L. Mills,
Departmental Clearance Officer.

[FR Doc. 03-5272 Filed 3-5-03; 8:45 am]

BILLING CODE 4510-43-M